DEPARTMENT OF COMMERCE

National Oceanic and Atmospheric Administration

50 CFR Part 622

[I.D. 080403B]

RIN 0648-AM23

Fisheries of the Caribbean, Gulf of Mexico, and South Atlantic; Shrimp Fishery of the Gulf of Mexico; Amendment 10

AGENCY: National Marine Fisheries Service (NMFS), National Oceanic and Atmospheric Administration (NOAA), Commerce.

ACTION: Notice of availability of Amendment 10 to the fishery management plan (FMP) for the shrimp fishery of the Gulf of Mexico; request for comments.

SUMMARY: NMFS announces that the Gulf of Mexico Fishery Management Council (Council) has submitted Amendment 10 to the FMP for the shrimp fishery of the Gulf of Mexico (Amendment 10) for review, approval, and implementation by NMFS. Amendment 10 would establish a requirement, with limited exceptions, for the use of bycatch reduction devices (BRDs) in each shrimp trawl used in the Gulf of Mexico exclusive economic zone (EEZ) east of 85°30′ West Longitude (the approximate location of Cape San Blas, Florida); establish a criterion whereby NMFS would certify BRDs for use in this area of the eastern Gulf of Mexico EEZ; and establish bycatch reporting requirements for the shrimp fishery of the Gulf of Mexico. Written comments on the proposed actions are requested from the public.

DATES: Written comments must be received on or before October 14, 2003.

ADDRESSES: Comments must be mailed to the Southeast Regional Office, NMFS, 9721 Executive Center Drive N., St. Petersburg, FL 33702. Comments may also be sent via fax to 727-522-5583. Comments will not be accepted if submitted via e-mail or Internet.

Copies of Amendment 10, which includes an Environmental Assessment, a Regulatory Impact Review (RIR), and an Initial Regulatory Flexibility Analysis (IRFA) are available from the Gulf of Mexico Fishery Management Council, The Commons at Rivergate, 3018 U.S. Highway 301 North, Suite 1000, Tampa Florida 33619-2266. phone: 813-228-2815; fax: 813-833-1844. A Supplemental RIR and IRFA are available from the Southeast Regional Office, NMFS, 9721 Executive Center Drive N., St. Petersburg, FL 33702.

FOR FURTHER INFORMATION CONTACT: Dr. Steven Branstetter, 727-570-5305; fax 727-570-5583; e-mail: steve.branstetter@noaa.gov.

SUPPLEMENTARY INFORMATION: The Magnuson-Stevens Fishery Conservation and Management Act (Magnuson-Stevens Act), as amended by the Sustainable Fisheries Act (SFA), requires each Regional Fishery Management Council to submit any fishery management plan or amendment to NMFS for review and approval, disapproval, or partial approval. The Magnuson-Stevens Act also requires that NMFS, upon receiving a plan or amendment, publish an announcement in the Federal Register notifying the public that the plan or amendment is available for review and comment. The intended effect of Amendment 10 is to conserve stocks of those finfish species found in the bycatch, while sustaining the viability of the shrimp fishery with minimum economic and social impacts.

NMFS partially approved the Council's Generic SFA Amendment on November 17, 1999. NMFS recognized that BRD requirements, implemented through Amendment 9 to the FMP (63 FR 1813, April 14, 1998), adequately addressed bycatch reduction requirements for areas west of Cape San Blas, Florida (western Gulf of Mexico). However, NMFS determined that bycatch was not reduced to the extent practicable for the entire Gulf of Mexico shrimp fishery because no additional bycatch reduction methods had been proposed for the areas east of Cape San Blas, Florida (eastern Gulf of Mexico). NMFS urged the Council to develop additional management actions to address bycatch in the shrimp fishery of the eastern Gulf of Mexico to be in compliance with National Standard 9. NMFS also did not approve that portion of the Council's Generic SFA Amendment regarding bycatch reporting methodologies, and urged the Council to develop standardized procedures that would comply with provisions of the Magnuson-Stevens Act.

Amendment 10, if implemented, would establish a requirement for shrimp vessels fishing in the EEZ in the eastern Gulf of Mexico (east of 85°30′ North Longitude) to use BRDs capable of reducing at least 30 percent of the total finfish catch by weight. This measure is intended to complete the Council's responsibilities to meet Magnuson-Stevens Act requirements to reduce bycatch in the Gulf of Mexico shrimp fishery to the extent practicable.

Additional alternatives considered but rejected by the Council included effort reductions and area and seasonal closures. The Council concluded that effort reduction is not a viable option until the Federal permit system, implemented through Amendment 11 (67 FR 51074, August 7, 2002), is operational and more detailed analyses can be conducted on the current size, distribution, and effort of the shrimp fishery of the Gulf of Mexico. The Council also concluded that limited area and season closures, which may shift effort instead of reducing it, would not provide the magnitude of bycatch reduction that would be achieved from the use of BRDs in all areas all year.

Amendment 10, if implemented, also would establish a method of reporting and estimating the bycatch in the shrimp fishery of the Gulf of Mexico by using data collected by an existing fishery independent survey, the Southeast Area Monitoring and Assessment Program (SEAMAP), combined with NMFS' best available estimates of shrimp fishing effort. The Council determined that this method would provide the most practicable solution to meet Magnuson-Stevens Act bycatch reporting requirements.

Additional alternatives considered but rejected by the Council included the expanded use of observers or establishment of a logbook reporting system. The Council determined that an observer program that would document only five percent of the fishing effort would be too expensive ($13-57 million) to implement, and still would require substantial extrapolations of bycatch for the remaining 95 percent of all shrimp fishing effort. The Council rejected a logbook alternative to record bycatch because it would require a substantial time commitment and burden on the part of vessel captains and crews, and because quality control in the logbook data would be difficult to maintain. Over 450 species have been identified in Gulf of Mexico shrimp trawls, which would require extensive training in species identification for vessel crews.

A proposed rule that would implement measures outlined in Amendment 10 has been received from the Council. In accordance with the Magnuson-Stevens Act, NMFS is evaluating the proposed rule to determine whether it is consistent with the FMP, the Magnuson-Stevens Act, and other applicable law. If that determination is affirmative, NMFS will publish the proposed rule in the Federal Register for public review and comment.

Comments received by October 14, 2003 will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: August 7, 2003.
Bruce C. Morehead,
Acting Director, Office of Sustainable Fisheries, National Marine Fisheries Service.

[FR Doc. 03-20681 Filed 8-13-03; 8:45 am]

BILLING CODE 3510-22-S